NUCLEAR REGULATORY COMMISSION

[NRC-2009-0443]

Withdrawal of Regulatory Guide 7.1

AGENCY: Nuclear Regulatory Commission.

ACTION: Withdrawal of Regulatory Guide 7.1.

FOR FURTHER INFORMATION CONTACT: Thomas J. Herrity, Office of Nuclear Regulatory Research, U.S. Nuclear Regulatory Commission, Washington, DC 20555-0001, telephone: 301-251-7447 or e-mail to Thomas.Herrity@nrc.gov.

SUPPLEMENTARY INFORMATION:

I. Introduction

The U.S. Nuclear Regulatory Commission (NRC) is withdrawing Regulatory Guide 7.1 (RG 7.1), “Administrative Guide for Packaging and Transporting Radioactive Material.” This guide was published in June 1974 and provided guidance on which packaging and labeling regulations of the Department of Transportation (DOT) apply in a given case and what must be done to comply with those regulations. The NRC is withdrawing this regulatory guide because it is outdated.

Although DOT revised their regulations on packaging and shipment of radioactive material several times after issuance of RG 7.1, neither this RG nor the American National Standards Institute (ANSI) standard referenced in the RG have been revised. In addition, ANSI Subcommittee N14.10 withdrew ANSI Standard ANSI N14.10.1, “Administrative Guide for Packaging and Transporting Radioactive Materials,” dated September 14, 1973.

DOT issued generic guidance, “Radioactive Material Regulations Review,” on their hazardous materials regulations in December 2008, which includes radioactive material determination and appropriate packaging, labeling and placarding for a given material. Because DOT issued guidance on meeting their hazardous materials regulations, this RG should be withdrawn instead of updated.

II. Further Information

The withdrawal of RG 7.1 does not alter any prior or existing licensing commitments based on its use. The guidance provided in this RG is neither necessary nor current. RGs may be withdrawn when their guidance is superseded by congressional action or no longer provides useful information.

RGs are available for inspection or downloading through the NRC's public Web site under “Regulatory Guides” in the NRC's Electronic Reading Room at http://www.nrc.gov/reading-rm/doc-collections. Regulatory guides are not copyrighted and Commission approval is not required to reproduce these documents. RGs are also available for inspection at the NRC's Public Document Room (PDR), Room O-1 F21, One White Flint North, 11555 Rockville Pike, Rockville, MD 20852-2738.

The PDR's mailing address is US Nuclear Regulatory Commission, Public Document Room, Washington, DC 20555-0001. You can reach the PDR staff by telephone at 301-415-4737 or 800-397-4209, by fax at 301-415-3548, and by e-mail to pdr.resource@nrc.gov.

Dated at Rockville, Maryland, this 30th day of September 2009.
For the Nuclear Regulatory Commission.
Andrea D. Valentin,
Chief, Regulatory Guide Development Branch, Division of Engineering, Office of Nuclear Regulatory Research.

[FR Doc. E9-24212 Filed 10-6-09; 8:45 am]

BILLING CODE 7590-01-P